DEPARTMENT OF COMMERCE

National Oceanic and Atmospheric Administration

50 CFR Part 648

[Docket No. 181203999-9503-02]

RIN 0648-BI64

Magnuson-Stevens Fishery Conservation and Management Act Provisions; Fisheries of the Northeastern United States; Northeast Multispecies Fishery; Framework Adjustment 58

AGENCY: National Marine Fisheries Service (NMFS), National Oceanic and Atmospheric Administration (NOAA), Commerce.

ACTION: Final rule.

SUMMARY: This action approves and implements Framework Adjustment 58 to the Northeast Multispecies Fishery Management Plan. This rule sets 2019-2020 catch limits for 7 of the 20 multispecies (groundfish) stocks, implements new or revised rebuilding plans for 5 stocks, revises an accountability measure, and makes other minor changes to groundfish management measures. This action is necessary to respond to updated scientific information and to achieve the goals and objectives of the fishery management plan. The final measures are intended to help prevent overfishing, rebuild overfished stocks, achieve optimum yield, and ensure that management measures are based on the best scientific information available.

DATES: Effective July 18, 2019.

ADDRESSES: Copies of Framework Adjustment 58, including the draft Environmental Assessment, the Regulatory Impact Review, and the Regulatory Flexibility Act Analysis prepared by the New England Fishery Management Council in support of this action are available from Thomas A. Nies, Executive Director, New England Fishery Management Council, 50 Water Street, Mill 2, Newburyport, MA 01950. The supporting documents are also accessible via the internet at: http://www.nefmc.org/management-plans/northeast-multispecies or http://www.regulations.gov.

Written comments regarding the burden-hour estimates or other aspects of the collection-of-information requirements contained in this final rule may be submitted to Greater Atlantic Regional Fisheries Office and by email to OIRA_Submission@omb.eop.gov or fax to (202) 395-5806.

FOR FURTHER INFORMATION CONTACT: Mark Grant, Fishery Policy Analyst, phone: 978-281-9145; email: Mark.Grant@noaa.gov.

SUPPLEMENTARY INFORMATION:

Table of Contents

1. Summary of Approved Measures

2. Fishing Year 2019 Shared U.S./Canada Quotas

3. Catch Limits for Fishing Years 2019-2020

4. Adjustments Due to Fishing Year 2017 Overage

5. Rebuilding Programs

6. Revision to the Georges Bank Yellowtail Flounder Accountability Measure Trigger for Scallop Vessels

7. Exemption From the U.S. Minimum Fish Sizes for Groundfish Species for Vessels Fishing Exclusively in the Northwest Atlantic Fisheries Organization Regulatory Area

8. Administrative Changes and Regulatory Corrections Under Secretarial Authority

9. Comments and Responses on Measures Proposed in the Framework 58 Proposed Rule

10. Changes From the Proposed Rule

1. Summary of Approved Measures

This action approves the management measures in Framework Adjustment 58 to the Northeast Multispecies Fishery Management Plan (FMP). The measures implemented in this final rule are:

• Fishing year 2019 shared U.S./Canada quotas for Georges Bank (GB) yellowtail flounder and Eastern GB cod and haddock;

• Fishing year 2019-2020 specifications, including catch limits, for four groundfish stocks: Witch flounder; GB winter flounder; Gulf of Maine (GOM) winter flounder; and Atlantic halibut;

• Revisions to rebuilding programs for GB winter flounder and northern windowpane flounder; and new rebuilding plans for Southern New England/Mid-Atlantic (SNE/MA) yellowtail flounder, witch flounder and ocean pout;

• Revisions to the trigger for the scallop fishery's accountability measures (AM) for GB yellowtail flounder; and

• An exemption for vessels fishing exclusively in the Northwest Atlantic Fisheries Organization (NAFO) Regulatory Area from the U.S. minimum fish size for groundfish species.

This action also implements a number of other measures that are not part of Framework 58, but that are implemented under Regional Administrator authority included in the Northeast Multispecies FMP or Secretarial authority to address administrative matters under section 305(d) of the Magnuson-Stevens Fishery Conservation and Management Act. We are implementing these measures in conjunction with the Framework 58 measures for expediency purposes, and because some of these measures are related to the catch limits proposed as part of Framework 58. The additional measures proposed in this action are listed below.

• Adjustment for fishing year 2017 catch overage—this action announces the reduction of the 2019 GOM cod allocation due to an overage that occurred in fishing year 2017.

• Other administrative revisions and corrections—this action revises the application deadline for days-at-sea (DAS) leases, makes regulatory corrections regarding the information required to be included in catch reports submitted via a vessel monitoring system (VMS), and corrects a citation in the regulations allocating GB and SNE/MA yellowtail flounder to the scallop fishery. These changes are described in the section 8, Administrative Changes and Regulatory Corrections under Secretarial Authority.

2. Fishing Year 2019 Shared U.S./Canada Quotas

Management of Transboundary Georges Bank Stocks

As described in the proposed rule (84 FR 16441; April 19, 2019), Eastern GB cod, Eastern GB haddock, and GB yellowtail flounder are jointly managed with Canada under the U.S./Canada Resource Sharing Understanding. This action adopts shared U.S./Canada quotas for these stocks for fishing year 2019 based on 2018 assessments and the recommendations of the Transboundary Management Guidance Committee (TMGC). The 2019 shared U.S./Canada quotas, and each country's allocation, are listed in Table 1. Detailed summaries of the assessments can be found at: https://www.nefsc.noaa.gov/assessments/trac/.

Table 1—2019 Fishing Year U.S./Canada Quotas (mt, live weight) and Percent of Quota Allocated to Each Country
Quota | Eastern GB cod | Eastern GB haddock | GB yellowtail flounder
Total Shared Quota | 650 | 30,000 | 140
U.S. Quota | 189 (29%) | 15,000 (50%) | 106 (76%)
Canadian Quota | 461 (71%) | 15,000 (50%) | 34 (24%)

The regulations implementing the U.S./Canada Resource Sharing Understanding require deducting any overages of the U.S. quota for Eastern GB cod, Eastern GB haddock, or GB yellowtail flounder from the U.S. quota in the following fishing year. If catch information for the 2018 fishing year indicates that the U.S. fishery exceeded its quota for any of the shared stocks, we will reduce the respective U.S. quotas for the 2019 fishing year in a future management action, as close to May 1, 2019, as possible. If any fishery that is allocated a portion of the U.S. quota exceeds its allocation and causes an overage of the overall U.S. quota, the overage reduction would be applied only to that fishery's allocation in the following fishing year. This ensures that catch by one component of the overall fishery does not negatively affect another component of the overall fishery.

3. Catch Limits for Fishing Years 2019-2020

Summary of the Catch Limits

This rule adopts new catch limits for 7 of the 20 groundfish stocks for the 2019-2020 fishing years. Framework 57 (83 FR 18985; May 1, 2018) previously set quotas for all groundfish stocks for fishing years 2019-2020. Only the eastern portion of the GB cod stock, jointly managed with Canada, did not have a 2019 quota set in Framework 57. The catch limits implemented in this action, including overfishing limits (OFL), acceptable biological catches (ABC), and annual catch limits (ACL), are listed in Tables 2 through 8. A summary of how these catch limits were developed, including the distribution to the various fishery components, was provided in the proposed rule and in Appendix II (Calculation of Northeast Multispecies Annual Catch Limits, FY 2019—FY 2020) to the Framework 58 Environmental Assessment (EA) (see ADDRESSES for information on how to get this document), and is not repeated here. The sector and common pool sub-ACLs implemented in this action are based on fishing year 2019 potential sector contributions (PSC) and final fishing year 2019 sector rosters.

Table 2—Fishing Years 2019-2020 Overfishing Limits and Acceptable Biological Catches
[Mt, live weight]
Stock | 2019: OFL | 2019: U.S. ABC | Percent change from 2018 | 2020: OFL | 2020: U.S. ABC
GB Cod * | 3,047 | 1,824 | 15 | 3,047 | 2,285
GOM Cod | 938 | 703 | 0 | 938 | 703
GB Haddock * | 99,757 | 58,114 | 19 | 100,825 | 73,114
GOM Haddock | 16,038 | 12,490 | −5 | 13,020 | 10,186
GB Yellowtail Flounder * | UNK | 106 | −50 | UNK | 168
SNE/MA Yellowtail Flounder | 90 | 68 | 0 | 90 | 68
CC/GOM Yellowtail Flounder | 736 | 511 | 0 | 848 | 511
American Plaice | 2,099 | 1,609 | −7 | 1,945 | 1,492
Witch Flounder | UNK | 993 | 0 | UNK | 993
GB Winter Flounder | 1,182 | 810 | 0 | 1,756 | 810
GOM Winter Flounder | 596 | 447 | 0 | 596 | 447
SNE/MA Winter Flounder | 1,228 | 727 | 0 | 1,228 | 727
Redfish | 15,640 | 11,785 | 2 | 15,852 | 11,942
White Hake | 3,898 | 2,938 | 0 | 3,916 | 2,938
Pollock | 53,940 | 40,172 | 0 | 57,240 | 40,172
N. Windowpane Flounder | 122 | 92 | 0 | 122 | 92
S. Windowpane Flounder | 631 | 473 | 0 | 631 | 473
Ocean Pout | 169 | 127 | 0 | 169 | 127
Atlantic Halibut | UNK | 104 | 0 | UNK | 104
Atlantic Wolffish | 120 | 90 | 0 | 120 | 90
CC = Cape Cod; N = Northern; S = Southern; UNK = Unknown.
* Only the GB cod, GB haddock, and GB yellowtail stocks have changes from the 2019 U.S. ABCs previously approved in Framework 57.

In fishing year 2017, GOM cod catch exceeded the total ACL and ABC, but not the OFL (Table 10). This overage and the required payback are discussed in detail in Section 4, Adjustments Due to Fishing Year 2017 Overage. The allocations for GOM cod in Tables 3, 5, 6, and 8 through 11 have been adjusted for this overage.

Default Catch Limits for 2021

Framework 53 established a mechanism for setting default catch limits in the event a future management action is delayed. If final catch limits have not been implemented by the start of a fishing year on May 1, then default catch limits are set at 35 percent of the previous year's catch limit, effective until July 31 of that fishing year, or when replaced by new catch limits sooner than July 31. If this default value exceeds the Council's recommendation for the upcoming fishing year, the default catch limits will be reduced to an amount equal to the Council's recommendation for the upcoming fishing year. Because groundfish vessels are not able to fish if final catch limits have not been implemented, this default measure was established to prevent disruption to the groundfish fishery. Additional description of the default catch limit mechanism is provided in the preamble to the Framework 53 final rule (80 FR 25110; May 1, 2015).

Table 3—Catch Limits for the 2019 Fishing Year
[Mt, live weight]
Stock | Total ACL | Groundfish sub-ACL | Final sector sub-ACL | Final common pool sub-ACL | Recreational sub-ACL | Midwater trawl fishery | Scallop fishery | Small-mesh fisheries | State waters sub- component | Other sub- component
| A to H | A + B + C | A | B | C | D | E | F | G | H
GB Cod* | 1,741 | 1,568 | 1,514 | 54 |  |  |  |  | 18 | 155
GOM Cod | 637 | 581 | 350 | 11 | 220 |  |  |  | 47 | 9
GB Haddock* | 55,249 | 53,276 | 52,432 | 844 |  | 811 |  |  | 581 | 581
GOM Haddock | 11,803 | 11,506 | 8,216 | 96 | 3,194 | 116 |  |  | 91 | 91
GB Yellowtail Flounder* | 103 | 85 | 82 | 2 |  |  | 17 | 2 | 0 | 0
SNE/MA Yellowtail Flounder | 66 | 32 | 26 | 6 |  |  | 15 |  | 2 | 17
CC/GOM Yellowtail Flounder | 490 | 398 | 377 | 21 |  |  |  |  | 51 | 41
American Plaice | 1,532 | 1,467 | 1,436 | 31 |  |  |  |  | 32 | 32
Witch Flounder* | 948 | 854 | 831 | 23 |  |  |  |  | 40 | 55
GB Winter Flounder* | 786 | 774 | 742 | 32 |  |  |  |  | 0 | 12
GOM Winter Flounder* | 428 | 355 | 337 | 18 |  |  |  |  | 67 | 7
SNE/MA Winter Flounder | 700 | 518 | 444 | 74 |  |  |  |  | 73 | 109
Redfish | 11,208 | 10,972 | 10,915 | 57 |  |  |  |  | 118 | 118
White Hake | 2,794 | 2,735 | 2,714 | 21 |  |  |  |  | 29 | 29
Pollock | 38,204 | 37,400 | 37,152 | 248 |  |  |  |  | 402 | 402
N. Windowpane Flounder | 86 | 63 | na | 63 |  |  | 18 |  | 2 | 3
S. Windowpane Flounder | 457 | 53 | na | 53 |  |  | 158 |  | 28 | 218
Ocean Pout | 120 | 94 | na | 94 |  |  |  |  | 3 | 23
Atlantic Halibut* | 100 | 75 | na | 75 |  |  |  |  | 21 | 4
Atlantic Wolffish | 84 | 82 | na | 82 |  |  |  |  | 1 | 1
na: Not allocated to sectors.
* These stocks have changes from the 2019 allocations previously approved in Framework 57.

Table 4—Catch Limits for the 2020 Fishing Year
[Mt, live weight]
Stock | Total ACL | Groundfish sub-ACL | Final sector sub-ACL | Final common pool sub-ACL | Recreational sub-ACL | Midwater trawl fishery | Scallop fishery | Small-mesh fisheries | State waters sub- component | Other sub- component
| A to H | A + B + C | A | B | C | D | E | F | G | H
GB Cod* | 2,182 | 1,965 | 1,897 | 67 |  |  |  |  | 23 | 194
GOM Cod | 666 | 610 | 378 | 11 | 220 |  |  |  | 47 | 9
GB Haddock* | 69,509 | 67,027 | 65,965 | 1,062 |  | 1,020 |  |  | 731 | 731
GOM Haddock | 9,626 | 9,384 | 6,700 | 78 | 2,605 | 95 |  |  | 74 | 74
GB Yellowtail Flounder* | 163 | 134 | 130 | 4 |  |  | 26 | 3 | 0 | 0
SNE/MA Yellowtail Flounder | 66 | 31 | 25 | 6 |  |  | 16 |  | 2 | 17
CC/GOM Yellowtail Flounder | 490 | 398 | 377 | 21 |  |  |  |  | 51 | 41
American Plaice | 1,420 | 1,361 | 1,332 | 29 |  |  |  |  | 30 | 30
Witch Flounder* | 948 | 854 | 831 | 23 |  |  |  |  | 40 | 55
GB Winter Flounder* | 786 | 774 | 742 | 32 |  |  |  |  | 0 | 12
GOM Winter Flounder* | 428 | 355 | 337 | 18 |  |  |  |  | 67 | 7
SNE/MA Winter Flounder | 700 | 518 | 444 | 74 |  |  |  |  | 73 | 109
Redfish | 11,357 | 11,118 | 11,060 | 58 |  |  |  |  | 119 | 119
White Hake | 2,794 | 2,735 | 2,714 | 21 |  |  |  |  | 29 | 29
Pollock | 38,204 | 37,400 | 37,152 | 248 |  |  |  |  | 402 | 402
N. Windowpane Flounder | 86 | 63 | na | 63 |  |  | 18 |  | 2 | 3
S. Windowpane Flounder | 457 | 53 | na | 53 |  |  | 158 |  | 28 | 218
Ocean Pout | 120 | 94 | na | 94 |  |  |  |  | 3 | 23
Atlantic Halibut* | 100 | 75 | na | 75 |  |  |  |  | 21 | 4
Atlantic Wolffish | 84 | 82 | na | 82 |  |  |  |  | 1 | 1
na: Not allocated to sectors.
* These stocks have changes from the 2020 allocations previously approved in Framework 57.

Table 5—Fishing Years 2019-2020 Common Pool Trimester TACs
[Mt, live weight]
Stock | 2019: Trimester 1 | 2019: Trimester 2 | 2019: Trimester 3 | 2020: Trimester 1 | 2020: Trimester 2 | 2020: Trimester 3
GB Cod | 15.1 | 18.3 | 20.4 | 18.9 | 22.9 | 25.6
GOM Cod | 5.3 | 3.6 | 2.0 | 5.5 | 3.7 | 2.0
GB Haddock | 228.0 | 278.6 | 337.7 | 286.8 | 350.5 | 424.9
GOM Haddock | 26.0 | 25.0 | 45.2 | 21.2 | 20.4 | 36.8
GB Yellowtail Flounder | 0.5 | 0.7 | 1.2 | 0.7 | 1.1 | 1.9
SNE/MA Yellowtail Flounder | 1.3 | 1.8 | 3.3 | 1.3 | 1.7 | 3.2
CC/GOM Yellowtail Flounder | 12.2 | 5.6 | 3.6 | 12.2 | 5.6 | 3.6
American Plaice | 23.3 | 2.5 | 5.7 | 21.6 | 2.3 | 5.2
Witch Flounder | 12.7 | 4.6 | 5.8 | 12.7 | 4.6 | 5.8
GB Winter Flounder | 2.5 | 7.6 | 21.6 | 2.5 | 7.6 | 21.6
GOM Winter Flounder | 6.7 | 6.9 | 4.5 | 6.7 | 6.9 | 4.5
Redfish | 14.3 | 17.7 | 25.2 | 14.5 | 18.0 | 25.5
White Hake | 8.0 | 6.6 | 6.6 | 8.0 | 6.6 | 6.6
Pollock | 69.5 | 86.8 | 91.8 | 69.5 | 86.8 | 91.8

Table 6—Common Pool Incidental Catch TACs for the 2019-2020 Fishing Years
[Mt, live weight]
Stock | Percentage of common pool sub-ACL | 2019 | 2020
GB Cod | 2 | 1.08 | 1.35
GOM Cod | 1 | 0.11 | 0.11
GB Yellowtail Flounder | 2 | 0.05 | 0.08
CC/GOM Yellowtail Flounder | 1 | 0.21 | 0.21
American Plaice | 5 | 1.57 | 1.46
Witch Flounder | 5 | 1.15 | 1.15
SNE/MA Winter Flounder | 1 | 0.74 | 0.74

Table 7—Percentage of Incidental Catch TACs Distributed to Each Special Management Program
Stock | Regular B DAS program (%) | Closed area I hook gear haddock SAP (%) | Eastern U.S./CA haddock SAP (%)
GB Cod | 50 | 16 | 34
GOM Cod | 100 |  |
GB Yellowtail Flounder | 50 |  | 50
CC/GOM Yellowtail Flounder | 100 |  |
American Plaice | 100 |  |
Witch Flounder | 100 |  |
SNE/MA Winter Flounder | 100 |  |

Table 8—Fishing Years 2019-2020 Incidental Catch TACs for Each Special Management Program
[Mt. live weight]
Stock | Regular B DAS program: 2019 | Closed area I hook gear haddock SAP: 2020 | Eastern U.S./Canada haddock SAP: 2019 | Eastern U.S./Canada haddock SAP: 2020 | Eastern U.S./Canada haddock SAP: 2019 | Eastern U.S./Canada haddock SAP: 2020
GB Cod | 0.54 | 0.67 | 0.17 | 0.22 | 0.37 | 0.46
GOM Cod | 0.11 | 0.11 |  |  |  |
GB Yellowtail Flounder | 0.02 | 0.04 |  |  | 0.02 | 0.04
CC/GOM Yellowtail Flounder | 0.21 | 0.21 |  |  |  |
American Plaice | 1.57 | 1.46 |  |  |  |
Witch Flounder | 1.15 | 1.15 |  |  |  |
SNE/MA Winter Flounder | 0.74 | 0.74 |  |  |  |

Sector Annual Catch Entitlements (ACE)

This rule announces the ACE allocated to sectors based on fishing year 2019 potential sector contributions (PSC) and final fishing year 2019 sector rosters. We calculate a sector's allocation for each stock by summing its members' PSC for the stock and then multiplying that total percentage by the commercial sub-ACL for that stock. The process for allocating ACE to sectors is further described in the final rule approving sector operations plans for fishing years 2019 and 2020 (84 FR 17916; April 26, 2019) and is not repeated here. At the start of the 2019 fishing year, we provided final allocations, to the nearest pound, to each sector based on their final May 1 rosters. Table 9 shows the cumulative fishing year 2019 PSC by stock for each sector for fishing year 2019. Tables 10 and 11 show the ACEs allocated to each sector for fishing year 2019, in pounds and metric tons, respectively. We have included the common pool sub-ACLs in tables 9 through 11 for comparison.

BILLING CODE 3510-22-P

BILLING CODE 3510-22-C

4. Adjustments Due to Fishing Year 2017 Overage

If an overall ACL is exceeded due to catch from vessels fishing outside of an allocated fishery, the overage is distributed to the components of the fishery with an allocation in proportion to each component's share of the ACL. If a fishery component's catch and its share of the ACL overage exceed the component's allocation, then the applicable AMs must be implemented. The commercial groundfish fishery AMs require a pound-for-pound reduction of the applicable sector or common pool sub-ACL following either component's overage. The recreational fishery AMs require a modification to that fishery's management measures.

In fishing year 2017, GOM cod catch exceeded the total ACL and ABC, but not the OFL (Table 12). We notified the Council of the overage and payback amounts in October 2018. The proposed rule included a description of the fishing year 2017 catch overage and required adjustments to fishing year 2019 allocations, and is not repeated here. These adjustments are not part of Framework 58. We are including them in conjunction with Framework 58 measures for expediency purposes, and because they relate to the catch limits included in Framework 58.

Table 13 shows the proportion (as a percentage) of the unallocated overage attributed to each component, the amount (mt) of the unallocated overage attributed to each sub-component, the amount (mt) of any overage of each component's sub-ACL, and amount (mt) that must be paid back by each component. Table 14 shows revised fishing year 2019 GOM cod allocations incorporating these payback amounts. These revised allocations were incorporated in the quotas set for 2019 (see 3. Catch Limits for Fishing Years 2019-2020).

Table 12—2017 ABC, ACL, Catch, and Overage
[mt, live weight]
Stock | U.S. ABC | Total ACL | Catch | Total overage | Unallocated overage
GOM Cod | 500 | 473 | 612.6 | 139.6 | 61.4

Table 13—2017 Payback Calculations and Amounts
[mt, live weight]
Component | Proportion of overage (%) | Overage amount | Catch amount below sub-ACL (underage) | Payback (overage minus underage)
Sectors | 64 | 39.4 | 10.5 | 28.8
Common Pool | 2 | 1.3 | 0.9 | 0.4
Recreational | 34 | 20.7 | 0 | (*)
* The recreational fishery does not have pound-for-pound payback.

Table 14—Revised 2019 Allocations
[mt, live weight]
Stock | Total ACL | Groundfish sub-ACL | Initial sector sub-ACL | Revised sector sub-ACL | Initial common pool sub-ACL | Revised common pool sub-ACL
GOM Cod | 666 | 610 | 378.40 | 349.56 | 11.25 | 10.85

5. Rebuilding Programs

This action revised the rebuilding programs for GB winter flounder and northern windowpane flounder; and creates new rebuilding plans for Southern New England/Mid-Atlantic (SNE/MA) yellowtail flounder, witch flounder and ocean pout, as more fully described in the proposed rule and Appendix III of the EA (see ADDRESSES). The deadline to implement these rebuilding plans is August 31, 2019. The Council's Scientific and Statistical Committee (SSC) advised that revising the ABCs for fishing years 2019 and 2020 is not warranted for the development of the new rebuilding plans because these ABCs were set with the most recent assessments in 2017. Therefore, the 2019 and 2020 ABCs set in Framework 57 are incorporated in the approved rebuilding plans. These rebuilding plans begin in 2019; therefore, January 1, 2020, will be the first year of the rebuilding plan for all stocks.

Stocks With Projections

The GB winter flounder and SNE/MA yellowtail flounder rebuilding programs approved in this action are expected to rebuild the stocks within 10 years, or by 2029, which is the maximum rebuilding time (Tmax) allowed by the Magnuson-Stevens Act. The approved rebuilding plan for GB winter flounder sets the fishing mortality (F) rate that is required to rebuild the stock (Frebuild) at 70 percent of fishing mortality rate associated with maximum sustainable yield (FMSY) with a 77-percent probability of achieving the biomass associated with maximum sustainable yield (BMSY). Generally, F is the proportion of the mean population size that is removed in a period of time. The approved rebuilding plan for SNE/MA yellowtail flounder sets Frebuild at 70 percent of FMSY with an 82-percent probability of achieving BMSY. As explained in more detail in Appendix III of the EA, the approved rebuilding plans address the needs of fishing communities as much as practicable, as well as factoring in past performance of groundfish catch projections in order to increase the likelihood of rebuilding success.

Stocks Without Projections

The approved rebuilding plan for northern windowpane flounder sets Frebuild at 70 percent of FMSY and the rebuilding timeline (Ttarget) at 10 years, rebuilding by the end of 2029. The approved rebuilding plan for ocean pout sets Frebuild at 70 percent of FMSY and Ttarget at 10 years, rebuilding by the end of 2029. The approved witch flounder rebuilding plan sets Frebuild as an exploitation rate of 6 percent (or as otherwise determined in a future stock assessment) and Ttarget at 23 years, rebuilding by the end of 2043. The northern windowpane flounder and ocean pout assessments are index-based. The witch flounder assessment is an empirical area-swept model. None of these assessments provide sufficient information for projections, which prevents calculating probabilities of achieving BMSY. Additional considerations by stock are discussed in Appendix III of the EA.

6. Revision to the Georges Bank Yellowtail Flounder Accountability Measure Trigger for Scallop Vessels

The scallop fishery is allocated sub-ACLs for four stocks: GB yellowtail flounder; SNE/MA yellowtail flounder; northern windowpane flounder; and southern windowpane flounder. These allocations manage the scallop fishery's bycatch of these stocks and mitigate potential negative impacts to the groundfish fishery. Framework 47 (77 FR 26104; May 2, 2012) established a policy for triggering scallop fishery AMs. The AMs are triggered if either the scallop fishery exceeds its sub-ACL for a stock and the overall ACL for that stock is exceeded, or the scallop fishery exceeds its sub-ACL for a stock by 50 percent or more. Framework 56 (82 FR 35660; August 1, 2017) made a change to this policy for GB yellowtail flounder to remove the second trigger for the 2017 and 2018 fishing years. This action extends this policy for GB yellowtail flounder for the 2019 and 2020 fishing years. For these years, the scallop fishery's AMs for GB yellowtail flounder will be triggered only if the scallop fishery exceeds its sub-ACL, and the overall ACL is exceeded.

This measure is intended to provide flexibility for the scallop fishery to better achieve optimal yield, despite recent reductions in the ACL, while continuing to prevent overfishing. Framework 58 reduces the 2019 GB yellowtail flounder ABC by 50 percent when compared to 2018. In recent years, a significant portion of the overall ACL has remained uncaught as groundfish vessels have reduced their catch and avoided the stock. Exceeding the total ACL would trigger the AM to mitigate biological effects of the overage and to address the cause of the overage by deterring subsequent ACL overages. This measure provides the scallop fishery with flexibility to adjust to current catch conditions and better achieve optimum yield while still providing an incentive to avoid GB yellowtail flounder. This extension is for only 2 years to reduce the potential risk for negative economic impacts to the groundfish fishery while providing further opportunity to assess the AM's performance. The underlying policy for triggering scallop fishery AMs that was established by Framework 47 will be in effect for catches in fishing year 2021 and beyond. Beginning with catch during fishing year 2021, the AM will be triggered if either the scallop fishery exceeds its sub-ACL for a stock and the overall ACL for that stock is exceeded, or the scallop fishery exceeds its sub-ACL for a stock by 50 percent or more.

7. Exemption From the U.S. Minimum Fish Sizes for Groundfish Species for Vessels Fishing Exclusively in the Northwest Atlantic Fisheries Organization Regulatory Area

This action exempts U.S. vessels on trips fishing exclusively in the NAFO Regulatory Area (Figure 1) from the domestic Northeast Multispecies FMP minimum sizes. On those trips, the vessels are required to land fish that meet the NAFO minimum sizes as specified in the NAFO Conservation and Enforcement Measures (see: https://www.nafo.int/Fisheries/Conservation), or otherwise specified. A comparison of U.S. domestic and NAFO minimum sizes is contained in the EA (see ADDRESSES). The NAFO stocks are distinct from the stocks managed by the Northeast Multispecies FMP. Therefore, harvest of those stocks does not have a biological impact on U.S. stocks. NAFO fishing trips require 100-percent observer coverage, and all catch that comes onboard the vessel is identified and quantified following NAFO protocols by the fisheries observer. Allowing U.S. vessels to harvest groundfish using NAFO minimum sizes enables the United States to be better stewards of the NAFO resource by reducing discards that meet the NAFO size standards but are below the domestic minimum size. NAFO catch primarily goes into the frozen market. Landing the dressed fish, even at sizes less than the domestic minimum size, does not give the NAFO participants a competitive advantage over domestic fishermen that rely upon the fresh fish market nor does it negatively affect the fresh fish market. Instead, this is expected to provide U.S. fishing businesses an opportunity to compete equally in the frozen market. This exemption applies to all NAFO species included in the Northeast Multispecies FMP.

BILLING CODE 3510-22-P

BILLING CODE 3510-22-C

8. Administrative Changes and Regulatory Corrections Under Secretarial Authority

The following changes are being made using Magnuson-Stevens Act section 305(d) authority to ensure that FMPs or amendments are implemented in accordance with the Magnuson-Stevens Act.

Days-at-Sea Leasing Deadline

We are using our administrative authority under § 305(d) of the Magnuson-Stevens Act to set the application deadline for days-at-sea leasing applications to April 30. This is intended to facilitate efficient use of groundfish DAS throughout the fishing year. As explained in the proposed rule, NMFS previously set a March 1 annual deadline to allow for a 45-day window to process paper applications and time to use the DAS prior to the end of the fishing year on April 30. Nearly all DAS leases are now submitted electronically and are processed almost immediately, making the March 1 deadline unnecessary.

At-Sea Catch Reporting

This rule revises the regulations for vessel monitoring system (VMS) catch reports. As explained in the proposed rule, Amendment 16 (75 FR 18262; April 9, 2010) implemented a new requirement for vessels to submit catch reports at-sea via their VMS on any trip fishing in multiple broad stock areas (BSA) and maintained preexisting requirements for vessels to submit catch reports for any trip fishing in a special management program (e.g., the U.S./Canada Management Areas, the Regular B DAS Program). However, the regulatory text implemented by the final rule inadvertently removed the requirement to report by statistical area. Additionally, in 2013, we revised the VMS reporting instructions to require vessels to submit catch by statistical area fished, rather than reporting catch by BSA, for any trip requiring a VMS catch report, but this change was not captured consistently in the regulations. This action revises the regulations to state consistently that species kept must be reported by statistical area on all VMS catch reports.

Citation for Scallop-Yellowtail Quota Transfer

This action corrects an erroneous citation to recreational allocations in the regulations implementing the mechanism to transfer unused yellowtail flounder quota from the scallop fishery to the groundfish fishery.

9. Comments and Responses on Measures Proposed in the Framework 58 Proposed Rule

We received comments on the Framework 58 proposed rule from three members of the public, the Northeast Seafood Coalition (NSC), and a joint comment from the Conservation Law Foundation (CLF) and the Natural Resources Defense Council (NRDC). Only comments that were applicable to the proposed measures are addressed below. Consolidated responses are provided to similar comments on the proposed measures.

Fishing Year 2019 Shared U.S./Canada Quotas

Comment 1: NSC commented that the 140-mt total shared quota for GB yellowtail flounder for 2019 could result in significant fishery and management implications that NMFS and the Council have not fully addressed.

Response 1: We disagree. The SSC review of the Transboundary Resource Assessment Committee assessment results and the discussions by the Council directly addressed the low GB yellowtail flounder quota for fishing year 2019 and the potential effects to the fishery. The EA analyzes the effects of the reduced quota. Additionally, this action extends the temporary change to the scallop fishery AM trigger for GB yellowtail flounder for the 2019 and 2020 fishing years (see 3. Revision to the Georges Bank Yellowtail Flounder Accountability Measure Trigger for Scallop Vessels) to provide flexibility for the scallop fishery to better achieve optimal yield, despite recent reductions in the ACL, while continuing to prevent overfishing.

Catch Limits for Fishing Years 2019-2020

Comment 2: CLF and NRDC commented that the GB cod ACL should not be increased until there is full accountability in the groundfish fishery through 100-percent catch monitoring at sea, an approved stock assessment model for GB cod, and a clear indication that the stock status for GB cod is increasing.

Response 2: We disagree. This action does not change the 2019 OFL and overall ABC set by Framework 57. The 2019 ACL increase for U.S. fishermen is not an increase in the overall available catch, but rather is the result of the way the overall ABC is divided between the U.S. and Canada. Canada's portion of the overall catch was not originally included in the U.S. available catch for 2019 and 2020. In the final rule for Framework 57, the published 2018 U.S. ABC included a reduction to account for Canadian catch, but the published U.S. ABCs for 2019 and 2020 were set equal to the total ABCs for those years because the portion of the Eastern GB cod TAC allocated to Canada for those years had not yet been set. Framework 58 allocates a portion of the Eastern GB cod TAC to Canada, and this allocation results in a 34-percent reduction to the 2019 U.S. ABC to account for Canada's allocation (see 2. Fishing Year 2019 Shared U.S./Canada Quotas). Accordingly, the increase in the GB cod ACL for fishing year 2019, in comparison to 2018, does not reflect an increase in the overall ABC. Rather, the ACL increase reflects that the allocation of Eastern GB cod to Canada in 2019 is less than in 2018.

Framework 57 set the GB cod OFL and overall ABC for fishing years 2018-2020 based on the peer-reviewed stock assessment completed in 2017 and the recommendations of the SSC, consistent with the National Standard 2 requirement to use the best scientific information available. Further, the ABCs and ACLs were calculated to prevent overfishing while achieving optimum yield, as required by National Standard 1, and they are consistent with the current rebuilding program for GB cod. In the absence of better information that would allow a more explicit determination of scientific uncertainty (including accuracy of catch and natural mortality estimates), the SSC's catch advice for GB cod set an ABC that was 75 percent of the recommended OFL, consistent with the Council's ABC control rule. This action revises the GB cod U.S. ABC and ACL for fishing year 2019 based on the most recent assessment of the eastern portion of the GB cod stock (jointly managed with Canada) and the resulting Eastern GB cod TAC for 2019. This reflects the best scientific information available, is expected to prevent overfishing while achieving optimum yield, and is consistent with the rebuilding program for GB cod.

Comment 3: One member of the public commented that the possession limits for yellowtail flounder for common pool vessels and the small-mesh fisheries should be zero, because it is not economically efficient to implement small possession limits.

Response 3: We disagree that the common pool should be prohibited from possessing yellowtail flounder. This action allocates quotas to components of the groundfish fishery and some other fisheries (see Table 3), but does not set individual vessel possession limits. A separate action (84 FR 17926; April 26, 2019) set common pool vessel possession and trip limits for fishing year 2019 to facilitate harvest and enable the total catch to approach, but not exceed, the quota for stocks allocated to the common pool, including yellowtail flounder stocks. Further, the FMP prohibits small-mesh vessels from retaining yellowtail flounder (all stocks) and allocates a sub-ACL of GB yellowtail flounder to manage that fishery's bycatch of the stock, which, if exceeded, would result in AMs being triggered.

Comment 4: One recreational fisherman commented that either the GOM cod commercial fishery allocation should be reduced to allow recreational fishermen to retain GOM cod or GOM cod possession should be prohibited for all vessels.

Response 4: We disagree. In Amendment 16, the Council allocated 33.7 percent of the GOM cod ACL to the recreational fishery and 66.3 percent to the commercial fishery, based on historic catch. This action allocates GOM cod to each group based on the ABCs set in Framework 57, consistent with the allocation split set by the Council in Amendment 16, as reduced to payback an overage in fishing year 2016 (see 4. Adjustments Due to Fishing Year 2017 Overage). Recreational measures (e.g., season, bag limit, minimum size) are set to ensure that the recreational sub-ACL is achieved, but not exceeded. A separate action (84 FR 20609; May 10, 2019) recently proposed and solicited comment on recreational fishing measures for fishing year 2019, including two 2-week seasons when recreational vessels may be allowed to possess GOM cod.

Rebuilding Programs

Comment 5: CLF and NRDC commented that the northern windowpane flounder, ocean pout, and witch flounder rebuilding plans do not have an adequate probability of rebuilding success; and do not comply with the legal requirements for rebuilding plans.

Response 5: We disagree and have approved the rebuilding plans. The northern windowpane flounder, ocean pout, and witch flounder rebuilding plans are based on the best scientific information available and are designed to ensure rebuilding progress within required timelines. In the absence of scientific information that provides a basis for precise probabilities of achieving BMSY, we are required to base our determination on the data currently available for these specific fisheries, the potential for gaining additional data within the rebuilding plan time, the performance of rebuilding plans generally compared to specific measures in these rebuilding plans, and the ability to adjust measures using updated information during our frequent evaluation of adequate rebuilding progress. Using this information, we are approving measures that we expect will promote rebuilding within the timelines taking into account the status and biology of the stocks, the interactions of these stocks within the ecosystem, and the needs of fishing communities.

The best scientific information available on the status and biology of these stocks show that they are in poor condition and rebuilding progress has been inadequate. However, the assessments provide limited information. The northern windowpane flounder and ocean pout assessments are index-based, which compare current catch in the most recent survey tows conducted by NOAA's research vessel to the 3-year average catch of the surveys. The witch flounder assessment is an empirical area-swept model, which estimates exploitable biomass based on the survey catch and that area surveyed. None of these assessments is appropriate for making short-term projections of biomass, which prevents calculating probabilities of achieving BMSY. Despite not being able to generate projections, both northern windowpane flounder and ocean pout have proxy reference points that are used to evaluate rebuilding progress. Witch flounder does not have proxy reference points, but the indices of abundance and biomass are compared to time series averages to evaluate rebuilding progress.

The approved rebuilding plans for northern windowpane flounder and ocean pout conservatively set Ttarget at 10 years, rebuilding by the end of 2029, because the minimum time for rebuilding each of these stocks in the absence of any fishing mortality (Tmin) is unknown due to a lack of aging data to calculate a mean generation time for these stocks. As described in the proposed rule, following National Standard 1 guidelines for setting timelines for stocks whose biology required more than 10 years to rebuild, Ttarget for witch flounder is set at 23 years based on two times the mean generation time, rebuilding by the end of 2043.

To rebuild within the prescribed timelines, the approved rebuilding plans set fishing mortality limits more conservatively than the past rebuilding plans. Under the groundfish control rule, most stocks would be expected to rebuild in 10 years when fishing at 75 percent of FMSY. Consistent with the Council's ABC control rule, the previous rebuilding plans began by setting F at 75 percent of FMSY, with an option to reduce the target F to a lower Frebuild if the stock was not rebuilding as expected. However, for northern windowpane flounder, ocean pout, and witch flounder, rebuilding was not achieved as previously planned despite application of the control rule. The revised rebuilding plans for northern windowpane flounder and ocean pout set Frebuild at 70 percent of FMSY and Ttarget at 10 years, rebuilding by the end of 2029. The revised witch flounder rebuilding plan sets Frebuild as an exploitation rate of 6 percent and Ttarget as 23 years, rebuilding by the end of 2043.

The new rebuilding plans for northern windowpane flounder and ocean pout have a more conservative Frebuild, set at 70 percent of FMSY, and unlike the previous rebuilding plans, the Frebuild will be implemented from the start of the rebuilding plans. Future quotas, based on the rebuilding plans, are expected to be lower than they would have been under the current rebuilding plans. Possession of these stocks is already prohibited, but if catch exceeds the quotas, accountability measures are implemented to further reduce catch by requiring selective trawl gear in geographic areas where catch is highest. The witch flounder rebuilding plan sets a more conservative Frebuild as an exploitation rate of 6 percent. These new rebuilding plans set Frebuild levels as rates (e.g., Frebuild at 70 percent of FMSY) rather than setting specific static values (e.g., 0.30). The rebuilding plans will incorporate the Frebuild values calculated by future assessments, consistent with the recommendations of the SSC. Importantly, this ensures that the rebuilding plans will adjust to new information by incorporating the Frebuild and exploitation rate values calculated by future assessments.

Consistent with the Magnuson-Stevens Act rebuilding requirement and National Standard 1 Guidelines, at least every 2 years NMFS will evaluate the rebuilding progress of each of these stocks and make a determination as to whether adequate rebuilding progress is being made. The National Standard 1 Guidelines state that the Secretary may find that a stock is making inadequate rebuilding progress if either: (1) Frebuild or the ACL associated with Frebuild is exceeded, and AMs are not correcting the operational issue that caused the overage, nor addressing any biological consequences; or (2) the rebuilding expectations of a stock or stock complex are significantly changed due to new and unexpected information about the status of the stock. The guidelines provide for reviews of recent stock assessments, comparisons of catches to ACLs, or other appropriate performance measures to gauge whether adequate rebuilding progress is being made. When addressing rebuilding programs based on available scientific information that does not provide for precise probabilities, this periodic review ensures that there is opportunity to use potentially better available information to take prompt and timely corrective action if a rebuilding plan is making inadequate progress.

We plan to monitor the rebuilding progress of northern windowpane flounder and ocean pout using the proxy biological reference points. Northern windowpane flounder has proxy biological reference points defined as FMSY proxy = 0.34 and BMSY proxy = 2.06 kg/tow. Ocean pout has proxy biological reference points defined as FMSY proxy = 0.76 and BMSY proxy = 4.94 kg/tow. Determining whether witch flounder is rebuilt will be more difficult because FMSY and BMSY are undefined. To make a determination, we will evaluate whether catch has exceeded the ACLs, or F has exceeded Frebuild, and the accountability measures are not addressing the cause of the overage; and whether the rebuilding expectations of the stock are significantly changed due to new or unexpected information about the status of the stock. We will continue to monitor whether the large 2013 year class moves through the population. As part of the mandated review of rebuilding progress we will determine whether additional measures are required and make recommendations to the Council as necessary. We are expecting additional assessment information during the rebuilding plans that will provide for adjusting fishing mortality accordingly and will inform our evaluation of whether adequate rebuilding progress is being made during the rebuilding plan. New fishery assessments for the northern windowpane flounder and witch flounder stocks are expected every 2 years and new assessments for the ocean pout stock are expected every 3 years. In addition to providing updated estimates of catch and status determination criteria, future assessments may provide additional information useful to evaluating rebuilding. For example, otoliths collected from windowpane flounder may allow for the development of a full analytical model at a future research track assessment.

These rebuilding plans also account for the role of these stocks within the ecosystem and the needs of fishing communities. The Council considered and analyzed multiple rebuilding plans for each stock as part of Framework Adjustment 58. In evaluating the options for each stock, the Council reviewed expected social and economic effects to consider the needs of communities, as recommended by the SSC. The Council opted to balance the likelihood of rebuilding a stock while simultaneously reducing economic risk. Ocean pout and northern windowpane flounder are each managed as a single stock throughout a very large geographic range. Therefore, these stocks have the potential to severely constrain catch of many other stocks caught in these stock areas. Thus, for ocean pout and northern windowpane flounder the Council selected neither the most conservative nor the most liberal Frebuild. For witch flounder, the Council selected the exploitation rate from the most recent assessment. These measures balance the need for better available information that would support development of more refined restrictions with ensuring rebuilding while avoiding potentially overly burdensome restrictions.

Comment 6: CLF and NRDC commented that NMFS recommended that the Council consider new conservation measures for northern windowpane flounder and ocean pout, and that witch flounder was “in need of rebuilding measures,” but that Framework 58 did not include new or additional management measures beyond new rebuilding timelines and new Frebuild rates.

Response 6: We are approving these rebuilding plans after taking into account the fishery management plan's ACL and AM measures, and the recent performance of these fisheries in relation to those measures; our close scrutiny of available information concerning the progress of these stocks as required under the Magnuson-Stevens Act; and our intent to conduct a research track assessment to investigate index-based assessments and control rules in the fall of 2020. In our August 31, 2017, letter to the Council, we made several recommendations to the Council regarding development of new rebuilding plans for northern windowpane flounder and ocean pout, including suggesting they consider additional management measures. We also recommended that the Council consider the effect of Framework Adjustment 56 (82 FR 35660; August 1, 2017) measures on correcting an operational issue that had contributed to recent ACL overages of northern windowpane flounder.

The Groundfish Plan Development Team discussed whether to develop additional management measures. Since Framework 56 was implemented, northern windowpane flounder catch has been reduced and has not exceeded the ACL. This suggests that the accountability measures implemented under Framework 56 are correcting the operational issues that led to the ACL overages and thereby addressed any biological consequences from overages. Ocean pout catch and witch flounder catches continue to be significantly below their ACLs and, as discussed above, are unit stocks for which additional restrictions could substantially adversely affect the entire fishery. As a result, the Plan Development Team developed the more conservative rebuilding plans approved by this action, rather than developing additional management measures for these stocks.

Comment 7: NSC commented that we should reconsider the stock status of GB winter flounder, consistent with the July 27, 2018, letter from Thomas A. Nies, Executive Director of the New England Fishery Management Council.

Response 7: In the July letter, Thomas A. Nies asked that we revisit our August 31, 2017, determination that, based on the 2015 stock assessment, GB winter flounder was overfished and subject to overfishing. In a response dated November 1, 2018, we notified the Council that, based on the 2017 stock assessment, GB winter flounder is not overfished and is not subject to overfishing, but is approaching an overfished condition. Further, we agreed that the latest assessment's biomass time series shows that GB winter flounder was not below the overfished threshold in 2007, nor any year since; therefore, the National Standard 1 Guidelines provide for the Council to choose to end the rebuilding plan. Because the stock is approaching an overfished condition, we recommended that the Council revise the rebuilding plan, rather than ending it. In Framework 58, the Council proactively revised the rebuilding plan for GB winter flounder because it is approaching an overfished condition. For the reasons discussed in the proposed rule and the preamble to this proposed rule, we have approved the rebuilding plan.

Comment 8: NSC commented in support of the witch flounder rebuilding plan and, in particular, setting the exploitation rate at 6 percent or as determined by a future stock assessment.

Response 8: We agree and have approved the witch flounder rebuilding plan.

Comment 9: NSC commented in support of the extension of the temporary change to the AM trigger for GB yellowtail flounder to remove the second trigger for the 2019 and 2020 fishing years.

Response 9: We agree and have approved the measure for the reasons discussed in the proposed rule and the preamble to this rule.

Comment 10: NSC commented in support of the exemption from U.S. domestic minimum fish sizes for groundfish for vessels fishing exclusively in the NAFO regulatory area to provide an opportunity for U.S. vessels to compete in the international frozen fish market without affecting the fresh fish market.

Response 10: We agree and have approved the measure for the reasons discussed in the proposed rule and the preamble to this rule.

10. Changes From the Proposed Rule

The sector and common pool sub-ACLs implemented by this action are based on fishing year 2019 PSCs and final fishing year 2019 sector rosters. The sub-ACLs in the proposed rule were based on the 2018 rosters because all permits enrolled in a sector, and the vessels associated with those permits, had until April 30, 2019, to withdraw from a sector and fish in the common pool for the 2019 fishing year. In addition to the enrollment delay, all permits that changed ownership after December 1, 2018, were allowed to join a sector through April 30, 2019.

Classification

Pursuant to section 304(b)(1)(A) of the Magnuson-Stevens Act, the NMFS Assistant Administrator has determined that the management measures implemented in this final rule are necessary for the conservation and management of the Northeast multispecies fishery and consistent with the Magnuson-Stevens Act, and other applicable law.

This final rule has been determined to be not significant for purposes of Executive Order (E.O.) 12866.

This rule is not an E.O. 13771 regulatory action because this rule is not significant under E.O. 12866.

This final rule does not contain policies with Federalism or takings implications as those terms are defined in E.O. 13132 and E.O. 12630, respectively.

The Assistant Administrator for Fisheries finds that there is good cause under 5 U.S.C. 553(d)(3) to waive the 30-day delayed effectiveness of this action. This action relies on the best available science to set 2019 catch limits for seven groundfish stocks and adopts several other measures to improve the management of the groundfish fishery. This final rule must be in effect as early in fishing year 2019 as possible to capture fully the conservation and economic benefits of Framework 58.

Framework 58 implements new quotas for fishing year 2019 for the transboundary GB stocks that we jointly manage with Canada (GB cod, GB haddock, and GB yellowtail flounder) based on new assessments for these stocks conducted in 2018. Framework 58 also includes minor adjustments to the catch limits specified in Framework 57 for witch flounder, GB winter flounder, GOM winter flounder, and Atlantic halibut. Framework 57, which we approved last year, set fishing year 2019 (May 1, 2019, through April 30, 2020) catch limits for all 20 groundfish stocks based on assessments conducted in 2017. Only the eastern portion of the GB cod stock, jointly managed with Canada, did not have a 2019 quota set in Framework 57. The Council took its final vote on Framework 58 in December 2018 and submitted the preliminary draft framework to NMFS for review on February 5, 2019. The formal submission of the framework to NMFS occurred on March 19, 2019. Given the timing of the Council process and the 5-week partial government shutdown, we were unable to publish a proposed rule for Framework 58 until April 19, 2019. A separate action implemented a constraining default quota (35 percent of the 2018 quota) for Eastern GB cod that will be in effect until we implement Framework 58.

The 30-day delay in implementation for this rule is unnecessary because this rule contains no new measures (e.g., requiring new nets or equipment) for which regulated entities need time to prepare or revise their current practices. This action is similar to the process used to set quotas every 1-2 years, approves all items as proposed, and contains only quotas and minor adjustments to the management plan that were discussed at multiple noticed meetings where the public was provided opportunity to learn about the action, ask questions, and provide input into the development of the measures. Affected parties and other interested parties participated in this public process to develop this action and expect implementation as close to the beginning of the fishing year on May 1 as possible.

A further delay in implementation beyond the date of filing, during which time a constraining default quota is in place for Eastern GB cod, increases negative economic effects for regulated entities. The default quota, which is in place for Eastern GB cod from May 1 until this rule is effective, is constraining the fishery in the Eastern U.S./Canada Area. The majority of fishing in that region occurs during summer. The seasonality of this fishery is primarily due to the seasonal geographic distribution of the stocks jointly managed with Canada. Haddock, a healthy and abundant stock, is the target fishery for U.S. vessels in the Eastern U.S./Canada Area. However, this stock of haddock is primarily in the U.S. waters of their range during the summer and are generally more abundant in Canadian waters later in the fishing year. A secondary reason for the importance of accessing the Eastern U.S./Canada Area early in the year is that the summer weather provides safer fishing in the area (approximately 150-200 miles offshore).

To estimate the effect of a further delay before implementing the full Eastern GB cod quota for the year we can evaluate a recent instance of this occurring. In 2017, default quotas (35 percent of the 2016 quotas) were in place from May 1 until we implemented Framework 56 on August 1. That resulted in negative economic impacts to the offshore fleet by reducing harvest of Eastern GB cod by nearly half and reducing harvest of Eastern GB haddock by nearly a third. In 2017, catch of Eastern GB cod dropped to 43.7 mt from 82.1 mt in 2016, while catch of Eastern GB haddock dropped to 425.1 mt from 588 mt in 2016. We forecast how a similar delay in 2019 could affect the fleet by using the 2017 declines in catch and the most recent (2018) average ex-vessel prices per pound during the period of May through July. In 2018, cod and haddock prices were $2.41 and $0.98, respectively. That would reduce revenue by more than $500,000 for the industry in 2019. That includes only the foregone catch of Eastern U.S./Canada stocks and does not include the revenue from other stocks (e.g., pollock, GB yellowtail flounder, GB winter flounder) that would also be caught on trips in the Eastern U.S./Canada Area. Because of the seasonal nature of the fishery, industry would permanently forego the revenues. Accordingly, a further delay in effectiveness for this action would be contrary to the public interest.

The quota for GB yellowtail flounder will decrease 50 percent with implementation of this rule. Delaying the reduction could lead to catch at a rate that would result in an early closure, or quota overage, once the reduced quota is implemented. This would have future negative economic impacts on the fishery. Further, delaying the required reduction in the catch limit increases the likelihood of an overage and negative biological impact to this stock that is overfished and subject to a rebuilding plan.

The Chief Counsel for Regulation of the Department of Commerce certified to the Chief Counsel for Advocacy of the Small Business Administration, during the proposed rule stage, that this action would not have a significant economic impact on a substantial number of small entities. The factual basis for this certification was published in the proposed rule and is not repeated here. No comments were received regarding this certification. As a result, a regulatory flexibility analysis was not required and none was prepared.

This rule contains a collection-of-information requirement subject to the Paperwork Reduction Act (PRA) and which has been approved by OMB under control number 0648-0605. Public reporting burden for VMS catch reports is estimated to average 15 minutes per response, including the time for reviewing instructions, searching existing data sources, gathering and maintaining the data needed, and completing and reviewing the collection of information. Send comments regarding this burden estimate, or any other aspect of this data collection, including suggestions for reducing the burden, to NMFS (see ADDRESSES) and by email to OIRA_Submission@omb.eop.gov, or fax to (202) 395-5806.

Notwithstanding any other provision of the law, no person is required to respond to, nor shall any person be subject to a penalty for failure to comply with, a collection of information subject to the requirements of the PRA, unless that collection of information displays a currently valid OMB Control Number. All currently approved NOAA collections of information may be viewed at: http://www.cio.noaa.gov/services_programs/prasubs.html.

List of Subjects in 50 CFR Part 648

Fisheries, Fishing, Recordkeeping and reporting requirements.

Dated: July 15, 2019.
Samuel D. Rauch III,
Deputy Assistant Administrator for Regulatory Programs, National Marine Fisheries Service.

For the reasons stated in the preamble, 50 CFR part 648 is amended as follows:

PART 648—FISHERIES OF THE NORTHEASTERN UNITED STATES

1. The authority citation for part 648 continues to read as follows:

Authority: 16 U.S.C. 1801 et seq.

2. In § 648.10, revise paragraph (k)(2) and the first sentence of paragraph (k)(3) to read as follows:

§ 648.10 VMS and DAS requirements for vessel owners/operators.

* * * * *

(k) * * *

(2) Reporting requirements for NE multispecies vessel owners or operators fishing in more than one broad stock area per trip. Unless otherwise provided in this paragraph (k)(2), the owner or operator of any vessel issued a NE multispecies limited access permit that has declared its intent to fish within multiple NE multispecies broad stock areas, as defined in paragraph (k)(3) of this section, on the same trip must submit a hail report via VMS providing a good-faith estimate of the amount of each regulated species retained (in pounds, landed weight) and the total amount of all species retained (in pounds, landed weight), including NE multispecies and species managed by other FMPs, from each statistical area. This reporting requirement is in addition to the reporting requirements specified in paragraph (k)(1) of this section and any other reporting requirements specified in this part. The report frequency is detailed in paragraphs (k)(2)(i) and (ii) of this section.

(i) Vessels declaring into GOM Stock Area and any other stock area. A vessel declared to fish in the GOM Stock Area, as defined in paragraph (k)(3)(i) of this section, and any other stock area defined in paragraphs (k)(3)(ii) through (iv) of this section, must submit a daily VMS catch report in 24-hr intervals for each day by 0900 hr of the following day. Reports are required even if groundfish species caught that day have not yet been landed.

(ii) Vessels declaring into multiple broad stock areas not including GOM Stock Area. A vessel declared into multiple stock areas defined in paragraphs (k)(3)(ii) through (iv) of this section, not including the GOM Stock Area I defined in paragraph (k)(3)(i) of this section, must submit a trip-level report via VMS prior to crossing the VMS demarcation line, as defined in § 648.10, upon its return to port following each fishing trip on which regulated species were caught, as instructed by the Regional Administrator.

(iii) The Regional Administrator may adjust the reporting frequency specified in paragraph (k)(2) of this section.

(iv) Exemptions from broad stock area VMS reporting requirements. (A) A vessel is exempt from the reporting requirements specified in paragraph (k)(2) of this section if it is fishing in a special management program, as specified in § 648.85, and is required to submit daily VMS catch reports consistent with the requirements of that program.

(B) The Regional Administrator may exempt vessels on a sector trip from the reporting requirements specified in this paragraph (k)(2) if it is determined that such reporting requirements would duplicate those specified in § 648.87(b).

(3) NE multispecies broad stock areas. For the purposes of the area-specific reporting requirements listed in paragraph (k)(1) of this section, the NE multispecies broad stock areas are defined in paragraphs (k)(3)(i) through (iv) of this section. * * *

* * * * *

3. In § 648.14, revise paragraphs (a)(7) and (k)(17) to read as follows:

§ 648.14 Prohibitions.

* * * * *

(a) * * *

(7) Possess, import, export, transfer, land, or have custody or control of any species of fish regulated pursuant to this part that do not meet the minimum size provisions in this part, unless such species were harvested exclusively within state waters by a vessel that does not hold a valid permit under this part, or are species included in the NE Multispecies Fishery Management Plan that were harvested by a vessel issued a valid High Seas Fishing Compliance permit that fished exclusively in the NAFO Regulatory Area.

* * * * *

(k) * * *

(17) Presumptions. For purposes of this part, the following presumptions apply: Regulated species possessed for sale that do not meet the minimum sizes specified in § 648.83 are deemed to have been taken from the EEZ or imported in violation of these regulations, unless the preponderance of all submitted evidence demonstrates that such fish were harvested by a vessel not issued a permit under this part and fishing exclusively within state waters, or by a vessel issued a valid High Seas Fishing Compliance permit that fished exclusively in the NAFO Regulatory Area. This presumption does not apply to fish being sorted on deck.

* * * * *

4. In § 648.17, revise paragraph (a)(1) to read as follows:

§ 648.17 Exemptions for vessels fishing in the NAFO Regulatory Area.

(a) Fisheries included under exemption—(1) NE multispecies. A vessel issued a valid High Seas Fishing Compliance Permit under part 300 of this title and that complies with the requirements specified in paragraph (b) of this section, is exempt from NE multispecies permit, mesh size, effort-control, minimum fish size, and possession limit restrictions, specified in §§ 648.4, 648.80, 648.82, 648.83, and 648.86, respectively, while transiting the EEZ with NE multispecies on board the vessel, or landing NE multispecies in U.S. ports that were caught while fishing in the NAFO Regulatory Area.

* * * * *

5. In § 648.82, revise paragraph (k)(3)(iii) to read as follows:

§ 648.82 Effort-control program for NE multispecies limited access vessels.

* * * * *

(k) * * *

(3) * * *

(iii) Denial of lease application. The Regional Administrator may deny an application to lease Category A DAS for any of the following reasons, including, but not limited to: The application is incomplete or submitted past the April 30 deadline; the Lessor or Lessee has not been issued a valid limited access NE multispecies permit or is otherwise not eligible; the Lessor's or Lessee's DAS are under sanction pursuant to an enforcement proceeding; the Lessor's or Lessee's vessel is prohibited from fishing; the Lessor's or Lessee's limited access NE multispecies permit is sanctioned pursuant to an enforcement proceeding; the Lessor or Lessee vessel is determined not in compliance with the conditions, restrictions, and requirements of this part; or the Lessor has an insufficient number of allocated or unused DAS available to lease. Upon denial of an application to lease NE multispecies DAS, the Regional Administrator shall send a letter to the applicants describing the reason(s) for application rejection. The decision by the Regional Administrator is the final agency decision.

* * * * *

6. Section 648.85 is amended by revising paragraphs (a)(3)(v)(A)(3), (b)(6)(iv)(I), and (b)(7)(vi)(D) to read as follows:

§ 648.85 Special management programs.

(a) * * *

(3) * * *

(v) * * *

(A) * * *

(3) Total pounds of cod, haddock, yellowtail flounder, winter flounder, witch flounder, pollock, American plaice, redfish, Atlantic halibut, ocean pout, Atlantic wolffish, and white hake kept (in pounds, live weight) in each statistical area, as instructed by the Regional Administrator.

* * * * *

(b) * * *

(6) * * *

(iv) * * *

(I) Reporting requirements. The owner or operator of a NE multispecies DAS vessel must submit catch reports via VMS in accordance with instructions provided by the Regional Administrator, for each day fished when declared into the Regular B DAS Program. The reports must be submitted in 24-hr intervals for each day, beginning at 0000 hr and ending at 2359 hr. The reports must be submitted by 0900 hr of the following day. For vessels that have declared into the Regular B DAS Program in accordance with paragraph (b)(6)(iv)(C) of this section, the reports must include at least the following information: VTR serial number or other universal ID specified by the Regional Administrator; date fish were caught; statistical area fished; and the total pounds of cod, haddock, yellowtail flounder, winter flounder, witch flounder, pollock, American plaice, redfish, Atlantic halibut, and white hake kept in each statistical area (in pounds, live weight), as instructed by the Regional Administrator. Daily reporting must continue even if the vessel operator is required to flip, as described in paragraph (b)(6)(iv)(E) of this section.

* * * * *

(7) * * *

(vi) * * *

(D) Reporting requirements. The owner or operator of a common pool vessel must submit reports via VMS, in accordance with instructions to be provided by the Regional Administrator, for each day fished in the Closed Area I Hook Gear Haddock SAP Area. The reports must be submitted in 24-hr intervals for each day fished, beginning at 0000 hr local time and ending at 2359 hr local time. The reports must be submitted by 0900 hr local time of the day following fishing. The reports must include at least the following information: VTR serial number or other universal ID specified by the Regional Administrator; date fish were caught; statistical area fished; and the total pounds of cod, haddock, yellowtail flounder, winter flounder, witch flounder, pollock, American plaice, redfish, Atlantic halibut, and white hake kept in each statistical area (in pounds, live weight), specified in § 648.10(k)(3), as instructed by the Regional Administrator. Daily reporting must continue even if the vessel operator is required to exit the SAP as required under paragraph (b)(7)(iv)(G) of this section.

* * * * *

7. In § 648.87, revise paragraphs (b)(1)(vi) introductory text and (b)(1)(vi)(A) to read as follows:

§ 648.87 Sector allocation.

* * * * *

(b) * * *

(1) * * *

(vi) Sector reporting requirements. In addition to the other reporting/recordkeeping requirements specified in this part, a sector's vessels must comply with the reporting requirements specified in this paragraph (b)(1)(vi).

(A) VMS declarations and trip-level catch reports. Prior to each sector trip, a sector vessel must declare into broad stock areas in which the vessel fishes and submit the VTR serial number associated with that trip pursuant to § 648.10(k). The sector vessel must also submit a VMS catch report detailing regulated species and ocean pout catch by statistical area when fishing in multiple broad stock areas on the same trip, pursuant to § 648.10(k).

* * * * *

8. Section 648.90 is amended by revising paragraphs (a)(4)(iii)(C) and (a)(5)(iv)(B), and adding paragraph (a)(5)(iv)(D) to read as follows:

§ 648.90 NE multispecies assessment, framework procedures and specifications, and flexible area action system.

* * * * *

(a) * * *

(4) * * *

(iii) * * *

(C) Yellowtail flounder catch by the Atlantic sea scallop fishery. Yellowtail flounder catch in the Atlantic sea scallop fishery, as defined in subpart D of this part, shall be deducted from the ABC/ACL for each yellowtail flounder stock pursuant to the restrictions specified in subpart D of this part and the process to specify ABCs and ACLs, as described in paragraph (a)(4) of this section. Unless otherwise specified in this paragraph (a)(4)(iii)(C), or subpart D of this part, the specific value of the sub-components of the ABC/ACL for each stock of yellowtail flounder distributed to the Atlantic sea scallop fishery shall be specified pursuant to the biennial adjustment process specified in paragraph (a)(2) of this section. The Atlantic sea scallop fishery shall be allocated 40 percent of the GB yellowtail flounder ABC (U.S. share only) in fishing year 2013, and 16 percent in fishing year 2014 and each fishing year thereafter, pursuant to the process for specifying ABCs and ACLs described in this paragraph (a)(4). An ACL based on this ABC shall be determined using the process described in paragraph (a)(4)(i) of this section. Based on information available, NMFS shall project the expected scallop fishery catch of GB and SNE/MA yellowtail flounder for the current fishing year by January 15. If NMFS determines that the scallop fishery will catch less than 90 percent of its GB or SNE/MA yellowtail flounder sub-ACL, the Regional Administrator may reduce the pertinent scallop fishery sub-ACL to the amount projected to be caught, and increase the groundfish fishery sub-ACL by any amount up to the amount reduced from the scallop fishery sub-ACL. The revised GB or SNE/MA yellowtail flounder groundfish fishery sub-ACL shall be distributed to the common pool and sectors based on the process specified in paragraph (a)(4)(iii)(H)(2) of this section.

* * * * *

(5) * * *

(iv) * * *

(B) 2017 and 2018 fishing year threshold for implementing the Atlantic sea scallop fishery AMs for Northern windowpane flounder. For the 2017 and 2018 fishing years only, if scallop fishery catch exceeds the northern windowpane flounder sub-ACL specified in paragraph (a)(4) of this section, and total catch exceeds the overall ACL for that stock, then the applicable scallop fishery AM will take effect, as specified in § 648.64 of the Atlantic sea scallop regulations. For the 2019 fishing year and onward, the threshold for implementing scallop fishery AMs for northern windowpane flounder will return to that listed in paragraph (a)(5)(iv)(A) of this section.

* * * * *

(D) 2017 through 2020 fishing year threshold for implementing the Atlantic sea scallop fishery AM for GB yellowtail flounder. For the 2017, 2018, 2019, and 2020 fishing years, if scallop fishery catch exceeds the GB yellowtail flounder sub-ACL specified in paragraph (a)(4) of this section, and total catch exceeds the overall ACL for that stock, then the applicable scallop fishery AM will take effect, as specified in § 648.64 of the Atlantic sea scallop regulations. For the 2021 fishing year and onward, the threshold for implementing scallop fishery AMs for GB yellowtail flounder will return to that listed in paragraph (a)(5)(iv)(A) of this section.

* * * * *

[FR Doc. 2019-15322 Filed 7-18-19; 8:45 am]

BILLING CODE 3510-22-P